INTERNATIONAL TRADE COMMISSION

[Investigations Nos. 731-TA-1084-1087 (Preliminary)]

Purified Carboxymethylcellulose From Finland, Mexico, Netherlands, and Sweden

Determinations

On the basis of the record ¹ developed in the subject investigations, the United States International Trade Commission (Commission) determines, pursuant to section 733(a) of the Tariff Act of 1930 (19 U.S.C. 1673b(a)) (the Act), that there is a reasonable indication that an industry in the United States is materially injured by reason of imports from Finland, Mexico, Netherlands, and Sweden of purified carboxymethylcellulose, provided for in subheading 3912.31.00 of the Harmonized Tariff Schedule of the United States, that are alleged to be sold in the United States at less than fair value (LTFV).

¹ The record is defined in § 207.2(f) of the Commission's Rules of Practice and Procedure (19 CFR 207.2(f)).

Commencement of Final Phase Investigations

Pursuant to section 207.18 of the Commission's rules, the Commission also gives notice of the commencement of the final phase of these investigations. The Commission will issue a final phase notice of scheduling, which will be published in the Federal Register as provided in section 207.21 of the Commission's rules, upon notice from the Department of Commerce (Commerce) of affirmative preliminary determinations in the investigations under section 733(b) of the Act, or, if the preliminary determination is negative, upon notice of an affirmative final determination in that investigation under section 735(a) of the Act. Parties that filed entries of appearance in the preliminary phase of these investigations need not enter a separate appearance for the final phase of these investigations. Industrial users, and, if the merchandise under investigation is sold at the retail level, representative consumer organizations have the right to appear as parties in Commission antidumping and countervailing duty investigations. The Secretary will prepare a public service list containing the names and addresses of all persons, or their representatives, who are parties to the investigations.

Background

On June 9, 2004, a petition was filed with the Commission and Commerce by Aqualon Co., a division of Hercules, Inc., Wilmington, DE, alleging that an industry in the United States is materially injured or threatened with material injury by reason of LTFV imports of purified carboxymethylcellulose from Finland, Mexico, Netherlands, and Sweden. Accordingly, effective June 9, 2004, the Commission instituted antidumping duty investigations Nos. 731-TA-1084-1087 (Preliminary).

Notice of the institution of the Commission's investigations and of a public conference to be held in connection therewith was given by posting copies of the notice in the Office of the Secretary, U.S. International Trade Commission, Washington, DC, and by publishing the notice in the Federal Register of June 17, 2004 (69 FR 33938). The conference was held in Washington, DC, on June 30, 2004, and all persons who requested the opportunity were permitted to appear in person or by counsel.

The Commission transmitted its determinations in these investigations to the Secretary of Commerce on July 26, 2004. The views of the Commission will be contained in USITC Publication 3713 (July 2004), entitled Purified Carboxymethylcellulose from Finland, Mexico, Netherlands, and Sweden: Investigations Nos. 731-TA-1084-1087 (Preliminary).

Issued: July 27, 2004.
By order of the Commission.
Marilyn R. Abbott,
Secretary to the Commission.

[FR Doc. 04-17410 Filed 7-29-04; 8:45 am]

BILLING CODE 7020-02-P